SECURITIES AND EXCHANGE COMMISSION

17 CFR Part 210

[Release Nos. 33-11265A; 34-99418A; IC-35096A; File No. S7-13-22]

RIN 3235-AM90

Special Purpose Acquisition Companies, Shell Companies, and Projections; Correction

AGENCY: Securities and Exchange Commission.

ACTION: Final rule; correction.

SUMMARY: This document makes a correction to an amendatory instruction in Release No. 33-11265 (Jan. 24, 2024), which was published in the Federal Register on February 26, 2024.

DATES: Effective July 1, 2024.

FOR FURTHER INFORMATION CONTACT: Mark Saltzburg, at (202) 551-3430, Office of Rulemaking, Division of Corporation Finance, U.S. Securities and Exchange Commission, 100 F Street NE, Washington, DC 20549.

SUPPLEMENTARY INFORMATION: In FR Doc. 2024-01853, appearing on page 14158 in the Federal Register of Monday, February 26, 2024, the following correction is made:

§ 210.1-02 [Corrected]

On page 14313, in the second column, in part 210, instruction 2, “Amend § 210.1-02 by revising paragraphs (d) and (w)(1) to read as follows:” is corrected to read “Amend § 210.1-02 by revising paragraph (d) and paragraph (w)(1) introductory text to read as follows:”.

Dated: June 14, 2024.
Vanessa A. Countryman,
Secretary.

[FR Doc. 2024-13444 Filed 6-18-24; 8:45 am]

BILLING CODE 8011-01-P